DEPARTMENT OF COMMERCE

National Oceanic and Atmospheric Administration

41st Meeting of the U.S. Coral Reef Task Force; Public Meeting

AGENCY: Coral Reef Conservation Program, Office for Coastal Management, National Ocean Service, National Oceanic and Atmospheric Administration, U.S. Department of Commerce.

ACTION: Notice of public meeting, notice of public comment.

SUMMARY: The U.S. Department of Commerce's National Oceanic and Atmospheric Administration (NOAA) and the U.S. Department of Interior will hold a public meeting of the 41st U.S. Coral Reef Task Force (USCRTF).

DATES: The public meeting will be held Thursday, February 21, from 8:00 a.m. to 5:00 p.m. with an opportunity to provide public comments. Written comments must be received on or before January 30, 2019. For specific the date, time, and location of the public meeting, see SUPPLEMENTARY INFORMATION.

ADDRESSES: You may submit comments to the USCRTF by any of the following methods:

Public Meeting and Oral Comments: A public meeting will be held in Washington DC. For the specific location, see SUPPLEMENTARY INFORMATION.

Written Comments: Please direct written comments to Jennifer Koss, NOAA, USCRTF Steering Committee Point of Contact, NOAA Coral Reef Conservation Program, 1305 East-West Highway, N/OCM, Silver Spring, MD 20910 or via email to Jennifer.Koss@noaa.gov.

FOR FURTHER INFORMATION CONTACT: Jennifer Koss, NOAA USCRTF Steering Committee Point of Contact, NOAA Coral Reef Conservation Program, 1305 East-West Highway, N/OCM, Silver Spring, MD 20910 at (301) 533-0777 or Liza Johnson, USCRTF Executive Secretary, U.S. Department of Interior, MS-3530-MIB, 1849 C Street NW, Washington, DC 20240 at (202) 208-5004 or visit the USCRTF website at http://www.coralreef.gov.

SUPPLEMENTARY INFORMATION: The meeting provides a forum for coordinated planning and action among federal agencies, state and territorial governments, and nongovernmental partners. Registration is requested for all events associated with the meeting. This meeting has time allotted for public comment. All public comments must be submitted in written format. A written summary of the meeting will be posted on the USCRTF website within two months of occurrence. For information about the meeting, registering and submitting public comments, go to http://www.coralreef.gov. Commenters may address the meeting, the role of the USCRTF, or general coral reef conservation issues. Before including your address, phone number, email address, or other personally identifiable information in your comments, you should be aware that your entire comment, including personally identifiable information, may be made publicly available at any time. While you can ask us in your comment to withhold your personally identifiable information from public review, we cannot guarantee that we will be able to do so. Established by Presidential Executive Order 13089 in 1998, the USCRTF mission is to lead, coordinate and strengthen U.S. government actions to better preserve and protect coral reef ecosystems. Co-chaired by the Departments of Commerce and Interior, USCRTF members include leaders of 12 federal agencies, seven U.S. states and territories and three freely associated states.

You may participate and submit oral comments at the public meeting. The public meeting occurs annually in Washington DC, and is scheduled as follows:

Date: Thursday, February 21, 2019.

Time: 8:00 a.m. to 5:00 p.m. EST.

Location: U.S. Environmental Protection Agency, 1201 Constitution Ave. NW, Washington, DC 20460, Room 1151.

Written comments must be received on or before January 30, 2019.

Dated: December 19, 2018.
Nicole R. LeBoeuf,
Acting Assistant Administrator for Ocean Services and Coastal Zone Management, National Oceanic and Atmospheric Administration.

[FR Doc. 2018-28360 Filed 12-27-18; 8:45 am]

BILLING CODE 3510-22-P